DEPARTMENT OF HEALTH AND HUMAN SERVICES

National Institutes of Health

National Cancer Institute Amended Notice of Meeting

Notice is hereby given of a change in the meeting of the National Cancer Advisory Board, September 12, 2017, 1:00 p.m. to September 12, 2017, 4:00 p.m., National Cancer Institute—Shady Grove, 9609 Medical Center Drive, Conference Room TE406 and TE408, Rockville, MD, 20850 (Virtual Meeting) which was published in the Federal Register on August 14, 2017, 82 FR 37885.

The meeting notice is amended to change the times of the open and closed sessions. The open session will end at 2:15 p.m. The closed session will begin at 2:30 p.m. and end at 3:30 p.m. The meeting is partially closed to the public.

Dated: August 30, 2017.
Melanie J. Pantoja,
Program Analyst Office of Federal Advisory Committee Policy.

[FR Doc. 2017-18804 Filed 9-5-17; 8:45 am]

BILLING CODE 4140-01-P